DEPARTMENT OF JUSTICE

Antitrust Division

Notice Pursuant to the National Cooperative Research and Production Act of 1993—Builders Hardware Manufacturers Association, Inc.

Notice is hereby given that, on September 20, 2004, pursuant to section 6(a) of the National Cooperative Research and Production Act of 1993, 15 U.S.C. 4301 et seq. (“the Act”), Builders Hardware Manufacturers Association, Inc. (“BHMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Builders Hardware Manufacturers Association, Inc., New York, NY. The nature and scope of BHMA's standards development activities are: Developing and maintaining the ANSI/BHMA A156 series of standards covering builders hardware products including architectural door trim, auxiliary hardware, cabinet hardware, door controls, exit devices, hinges, locking devices, power operated doors, and sliding and folding door hardware.

Dorothy B. Fountain,
Deputy Director of Operations, Antitrust Division.

[FR Doc. 04-25838 Filed 11-19-04; 8:45 am]

BILLING CODE 4410-11-M